ENVIRONMENTAL PROTECTION AGENCY

[EPA-HQ-ORD-2009-0313; FRL-8962-5]

Agency Information Collection Activities; Submission to OMB for Review and Approval; Comment Request; Critical Public Information Needs During Drinking Water Emergencies (New); EPA ICR No. 2322.01, OMB Control No. 2080-NEW

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Comments must be submitted on or before October 26, 2009.

ADDRESSES: Submit your comments, referencing Docket ID No. EPA-HQ-ORD-2009-0313 to (1) EPA online using http://www.regulations.gov (our preferred method), by e-mail to ord.docket@epa.gov, or by mail to: EPA Docket Center, Environmental Protection Agency, Office of Research & Development Docket, Mail Code 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Scott Minamyer, Environmental Protection Agency, Mail Code NG-16, Environmental Protection Agency, 26 West Martin Luther King Drive, Cincinnati, OH 45220; telephone number: 513-569-7175; fax number: 513-487-2559; e-mail address: minamyer.scott@epa.gov.

SUPPLEMENTARY INFORMATION: EPA has submitted the following ICR to OMB for review and approval according to the procedures prescribed in 5 CFR 1320.12. On June 17, 2009 (74 FR 28696), EPA sought comments on this ICR pursuant to 5 CFR 1320.8(d). EPA received no comments during the comment period. Any additional comments on this ICR should be submitted to EPA and OMB within 30 days of this notice.

EPA has established a public docket for this ICR under Docket ID No. EPA EPA-HQ-ORD-2009-0313, which is available for online viewing at http://www.regulations.gov, or in person viewing at the ORD Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the ORD Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Critical Public Information Needs during Drinking Water Emergencies (New).

ICR numbers: EPA ICR No. 2322.01, OMB Control No. 2080-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR Part 9.

Abstract: EPA is collecting this information as part of a formative research study to identify critical information the public will need from water utilities and other decision-makers during a crisis event impacting drinking water. The research will probe consumers' and water sector professionals' beliefs, opinions, and knowledge about water security risks to assist public officials in planning effective crisis communication strategies for such emergencies. Good communication can rally support, calm fears, provide needed instructions, and encourage cooperative behaviors.

Study participants will also provide feedback on the effectiveness of draft sample messages previously developed by EPA in consultation with subject matter experts from water utilities, public health, emergency response, law enforcement, and water trade/professional organizations. Voluntary participants for this one-time study will include water utility managers, public information officers, and members of the public who consume drinking water supplied by water utilities. Confidentiality of responses from respondents will be assured by using an independent contractor to collect the information, enacting procedures to prevent unauthorized access to respondent data, and preventing public disclosure of the responses of individual participants.

Burden Statement: The annual public reporting and recordkeeping burden for this collection of information is estimated to average 1.7 hours per response. Burden is defined as the total time, effort, or financial resources expended by persons to generate, maintain, retain, or disclose or provide information to or for a Federal agency. This includes the time needed to: Review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Water utility professional staff and members of the public participating in focus group discussions.

Estimated Number of Respondents: 180.

Frequency of Response: Once.

Estimated Total Annual Hour Burden: 308.

Estimated Total Annual Cost: $1,380; includes $0 annualized capital or O&M costs.

Changes in the Estimates: This is a new ICR.

Dated: September 17, 2009.
John Moses,
Director, Collection Strategies Division.

[FR Doc. E9-23075 Filed 9-23-09; 8:45 am]

BILLING CODE 6560-50-P